SECURITIES AND EXCHANGE COMMISSION

Sunshine Act Meeting

FEDERAL REGISTER CITATION OF PREVIOUS ANNOUNCEMENT: [to be published].

STATUS: Closed Meeting.

PLACE: 450 Fifth Street, N.W., Washington, D.C.

DATE PREVIOUSLY ANNOUNCED: To be published.

CHANGE IN THE MEETING: Time Change.

The closed meeting scheduled for Wednesday, May 3, 2000 at 11 a.m., has been changed to Wednesday, May 3, 2000, at 2 p.m.

At times, changes in Commission priorities require alterations in the scheduling of meeting items. For further information and to ascertain what, if any, matters have been added, deleted or postponed, please contact:

The Office of the Secretary at (202) 942-7070.

Dated: April 28, 2000.
Jonathan G. Katz,
Secretary.

[FR Doc. 00-11104 Filed 5-1-00; 11:36 am]

BILLING CODE 8010-01-M